NUCLEAR REGULATORY COMMISSION

[NRC-2021-0200]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from September 17, 2021, to October 14, 2021. The last monthly notice was published on October 5, 2021.

DATES: Comments must be filed by December 2, 2021. A request for a hearing or petitions for leave to intervene must be filed by January 3, 2022.

ADDRESSES: You may submit comments by any of the following methods; however, the NRC encourages electronic comment submission through the Federal Rulemaking website:

• Federal Rulemaking Website: Go to https://www.regulations.gov and search for Docket ID NRC-2021-0200. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Rhonda Butler, Office of Nuclear Reactor Regulation, U.S. Nuclear Regulatory Commission, Washington, DC 20555-0001, telephone: 301-415-8025, email: Rhonda.Butler@nrc.gov.

SUPPLEMENTARY INFORMATION:

I. Obtaining Information and Submitting Comments

A. Obtaining Information

Please refer to Docket ID NRC-2021-0200, facility name, unit number(s), docket number(s), application date, and subject when contacting the NRC about the availability of information for this action. You may obtain publicly available information related to this action by any of the following methods:

• Federal Rulemaking Website: Go to https://www.regulations.gov and search for Docket ID NRC-2021-0200.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0200, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this document, the Commission finds that the licensees' analyses provided, consistent with section 50.91 of title 10 of the Code of Federal Regulations (10 CFR), “Notice for public comment; State consultation,” are sufficient to support the proposed determinations that these amendment requests involve NSHC. Under the Commission's regulations in 10 CFR 50.92, “Issuance of amendment,” operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. (ET) on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., (ET), Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Duke Energy Carolinas, LLC; Oconee Nuclear Station, Units 1, 2, and 3; Oconee County, SC
Docket No(s) | 50-269, 50-270, 50-287.
Application date | September 2, 2021.
ADAMS Accession No | ML21245A210.
Location in Application of NSHC | Pages 11-13 of Enclosure.
Brief Description of Amendment(s) | The proposed amendment would revise Technical Specification 3.7.7, “Low Pressure Service Water (LPSW) System” to extend the Completion Time related to Condition A and Required Action A.1 for a temporary basis to 288 hours during the Oconee Nuclear Station, Unit 2, Refuel 31.
Proposed Determination | NSHC.
Name of Attorney for Licensee, Mailing Address | Tracey Mitchell LeRoy, Deputy General Counsel, Duke Energy Corporation, 550 South Tryon Street, Mail Code DEC45A, Charlotte, NC 28202.
NRC Project Manager, Telephone Number | Stephanie Devlin-Gill, 301-415-5301.
Exelon FitzPatrick, LLC and Exelon Generation Company, LLC; James A. FitzPatrick Nuclear Power Plant; Oswego County, NY
Docket No(s) | 50-333.
Application date | May 14, 2021.
ADAMS Accession No | ML21134A211.
Location in Application of NSHC | Pages 4-5 of the Enclosure.
Brief Description of Amendment(s) | The proposed change requests adoption of TSTF-264-A, Revision 0, “3.3.9 and 3.3.10-Delete Flux Monitors Specific Overlap Requirement SR [Surveillance Requirements].” Specifically, the proposed change revises Technical Specification 3.3.1.1, “RPS Instrumentation,” by deleting Surveillance Requirements 3.3.1.1.5 and 3.3.1.1.6, which verify the overlap between the source range monitor and the intermediate range monitor, and between the intermediate range monitor and the average power range monitor. The surveillance functions will still be performed by the associated CHANNEL CHECK in Surveillance Requirement 3.3.1.1.1.
Proposed Determination | NSHC.
Name of Attorney for Licensee, Mailing Address | Donald P. Ferraro, Assistant General Counsel, Exelon Generation Company, LLC, 200 Exelon Way, Suite 305, Kennett Square, PA 19348.
NRC Project Manager, Telephone Number | Justin Poole, 301-415-2048.
Exelon Generation Company, LLC; Braidwood Station, Units 1 and 2; Will County, IL
Docket No(s) | 50-456, 50-457.
Application date | August 2, 2021.
ADAMS Accession No | ML21214A331.
Location in Application of NSHC | Pages 20-22 of Attachment 1.
Brief Description of Amendment(s) | The proposed amendment revises Technical Specification (TS) 3.7.9, “Ultimate Heat Sink [UHS]” for an inoperable UHS due to the average water temperature to allow utilization of existing margin in the design analysis to offset the increase in the TS UHS temperature. The proposed amendment also revises TS 3.7.9 Surveillance Requirement 3.7.9.2 to delete the temporary allowance for the UHS average water temperature of 102.8 °F until September 30, 2021.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; Calvert Cliffs Nuclear Power Plant, Units 1 and 2; Calvert County, MD
Docket No(s) | 50-317, 50-318.
Application date | June 14, 2021, as supplemented by letter dated August 13, 2021.
ADAMS Accession No | ML21165A406, ML21225A353.
Location in Application of NSHC | Pages 19-22 of Attachment 1 of the Supplement.
Brief Description of Amendment(s) | The proposed amendment would revise the current licensing basis in the updated Final Safety Analysis Report and the Technical Requirements Manual for Calvert Cliffs Nuclear Power Plant, Units 1 and 2, to allow for a full core offload without the availability of supplementing the spent fuel pool cooling system with one loop of the shutdown cooling system during certain refueling outages. The proposed amendment also includes a change in the calculational methodology used in the spent fuel pool heat-up analysis.
Proposed Determination | NSHC.
Name of Attorney for Licensee, Mailing Address | Tamra Domeyer, Associate General Counsel, Exelon Generation Company, LLC, 4300 Winfield Road, Warrenville, IL 60555.
NRC Project Manager, Telephone Number | Andrea Mayer, 301-415-1081.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Application date | September 17, 2021.
ADAMS Accession No | ML21263A223.
Location in Application of NSHC | Pages E-3—E-4 of Enclosure.
Brief Description of Amendment(s) | The proposed amendments would revise the Technical Specifications to adopt Technical Specifications Task Force (TSTF) Traveler TSTF 577, “Revised Frequencies for Steam Generator Tube Inspections.”
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Susquehanna Nuclear, LLC and Allegheny Electric Cooperative, Inc.; Susquehanna Steam Electric Station, Units 1 and 2; Luzerne County, PA
Docket No(s) | 50-387, 50-388.
Application date | April 8, 2021.
ADAMS Accession No | ML21098A206.
Location in Application of NSHC | Pages 14-16 of Attachment 1.
Brief Description of Amendment(s) | The amendments would change various technical specifications (TSs) to permit the use of risk-informed completion times in accordance with Technical Specifications Task Force (TSTF) Traveler TSTF-505, Revision 2, “Provide Risk-Informed Extended Completion Times, RITSTF [Risk-Informed TSTF] Initiative 4b,” dated July 2, 2018 (ADAMS Accession No. ML18183A493). The licensee also proposed variations from TSTF-505, Revision 2 and TS changes not associated with TSTF-505, Revision 2.
Proposed Determination | NSHC.
Name of Attorney for Licensee, Mailing Address | Damon D. Obie, Esq, 835 Hamilton St., Suite 150, Allentown, PA 18101.
NRC Project Manager, Telephone Number | Audrey Klett, 301-415-0489.
TMI-2 Solutions, LLC; Three Mile Island Unit 2; Londonderry Township, Dauphin County, PA
Docket No(s) | 50-320.
Application date | October 5, 2021.
ADAMS Accession No | ML21279A278.
Location in Application of NSHC | Pages 6-7 of Attachment 1.
Brief Description of Amendment(s) | This is a proposed change to revise the Document List contained in the License Technical Specifications at paragraph 6.9.2 to reflect a proposed exemption to record keeping requirements for the TMI-2 reactor site.
Proposed Determination | NSHC.
Name of Attorney for Licensee, Mailing Address | Russ Workman, General Counsel, Energy Solutions, 299 South Main Street, Suite 1700, Salt Lake City, UT 84111.
NRC Project Manager, Telephone Number | Theodore Smith, 301-415-6721.
Virginia Electric and Power Company, Dominion Nuclear Company; North Anna Power Station, Units 1 and 2; Louisa County, VA
Docket No(s) | 50-338, 50-339.
Application date | September 9, 2021.
ADAMS Accession No | ML21252A514.
Location in Application of NSHC | Pages 2-4 of Enclosure.
Brief Description of Amendment(s) | The proposed change would revise Technical Specification (TS) 5.6.7, “Steam Generator (SG) Program,” and TS 5.5.8, “Steam Generator Tube Inspection Report,” in accordance with TSTF-577, Revision 1, “Revised Frequencies for Steam Generator Tube Inspections.”
Proposed Determination | NSHC.
Name of Attorney for Licensee, Mailing Address | W.S. Blair, Senior Counsel, Dominion Resource Services, Inc., 120 Tredegar St., RS-2, Richmond, VA 23219.
NRC Project Manager, Telephone Number | G. Ed Miller, 301-415-2481.
Vistra Operations Company LLC; Comanche Peak Nuclear Power Plant, Units 1 and 2; Somervell County, TX
Docket No(s) | 50-445, 50-446.
Application date | July 27, 2021, as supplemented by letter(s) dated August 31, 2021.
ADAMS Accession No | ML21208A023, ML21243A232.
Location in Application of NSHC | Pages 3-5 of Enclosure 2 of the Supplement.
Brief Description of Amendment(s) | The amendments would adopt Technical Specifications Task Force (TSTF) Traveler TSTF-577, Revision 1, “Revised Frequencies for Steam Generator Tube Inspections.” The amendments would modify the technical specification requirements related to steam generator tube inspections and reporting based on operating history.
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.
Wolf Creek Nuclear Operating Corporation; Wolf Creek Generating Station, Unit 1; Coffey County, KS
Docket No(s) | 50-482.
Application date | September 29, 2021.
ADAMS Accession No | ML21272A283.
Location in Application of NSHC | Pages 13-14 of Attachment I.
Brief Description of Amendment(s) | The proposed changes would modify Technical Specification 3.3.2, “Engineered Safety Feature Actuation System (ESFAS) Instrumentation,” Condition N, to provide allowable restoration time and avoid a potential unplanned plant shutdown should a condition occur requiring ESFAS corrective maintenance.
Proposed Determination | NSHC.
Name of Attorney for Licensee, Mailing Address | Thomas C. Poindexter, Morgan, Lewis and Bockius LLP, 1111 Pennsylvania Avenue NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Dominion Energy Nuclear Connecticut, Inc.; Millstone Power Station, Unit No. 3; New London County, CT
Docket No(s) | 50-423.
Amendment Date | October 5, 2021.
ADAMS Accession No | ML21227A000.
Amendment No(s) | 279.
Brief Description of Amendment(s) | The amendment revised the Millstone 3 Technical Specification 6.9.1.6.b by adding topical report WCAP-16996-P-A, Revision 1, “Realistic LOCA [loss-of-coolant accident] Evaluation Methodology Applied to the Full Spectrum of Break Sizes (Full Spectrum LOCA Methodology),” to the list of methodologies approved for reference in the Core Operating Limits Report (COLR) for Millstone 3. The added reference identifies the analytical method used to determine the core operating limits for the large break LOCA event described in the Millstone 3 Final Safety Analysis Report, Section 15.6.5, “Loss-of-Coolant Accidents Resulting from a Spectrum of Postulated Piping Breaks within the Reactor Coolant Pressure Boundary.” The amendment also removed COLR Reference WCAP-12945-P-A, which is no longer being used to support the Millstone 3 core reload analysis.
Public Comments Received as to Proposed NSHC (Yes/No) | No.
Energy Harbor Nuclear Corp. and Energy Harbor Nuclear Generation LLC; Beaver Valley Power Station, Unit No. 2; Beaver County, PA
Docket No(s) | 50-412.
Amendment Date | June 30, 2021.
ADAMS Accession No | ML21153A176.
Amendment No(s) | 201.
Brief Description of Amendment(s) | The amendment revised the technical specification (TS) requirements related to methods of inspection and service life for Alloy 800 steam generator tubesheet sleeves. The proposed TS changes also removed a note about sleeve inspection that would no longer be applicable.
Public Comments Received as to Proposed NSHC (Yes/No) | No.
Entergy Operations, Inc.; Arkansas Nuclear One, Unit 2; Pope County, AR
Docket No(s) | 50-368.
Amendment Date | September 20, 2021.
ADAMS Accession No | ML21208A449.
Amendment No(s) | 325.
Brief Description of Amendment(s) | The amendment modified the Loss of Voltage relay allowable values contained in Arkansas Nuclear One, Unit 2 (ANO-2) Technical Specification (TS) 3.3.2.1, “Engineered Safety Feature Actuation System Instrumentation,” specifically Table 3.3-4, Functional Unit 7.a, “4.16 kv [kilovolt] Emergency Bus Undervoltage.” The amendment also corrected an error in Table 3.3-3 of ANO-2 TS 3.3.2.1.
Public Comments Received as to Proposed NSHC (Yes/No) | No.
Entergy Operations, Inc.; Waterford Steam Electric Station, Unit 3; St. Charles Parish, LA
Docket No(s) | 50-382.
Amendment Date | September 15, 2021.
ADAMS Accession No | ML21166A183.
Amendment No(s) | 261.
Brief Description of Amendment(s) | This amendment relocated the Waterford Steam Electric Station, Unit 3 (Waterford 3) boration systems technical specification (TS) equipment that is required to support the operability of the auxiliary pressurizer spray system from TSs 3.1.2.2, 3.1.2.4, 3.1.2.6 and 3.1.2.8 to Waterford 3 TS 3/4.4.3.2, “Auxiliary Spray,” and relocated the remaining information from these TSs, as well as the remaining boration systems in TSs 3.1.2.1, 3.1.2.3, 3.1.2.5 and 3.1.2.7 to the licensee-controlled Technical Requirements Manual.
Public Comments Received as to Proposed NSHC (Yes/No) | No.
Exelon Generation Company, LLC; LaSalle County Station, Unit Nos. 1 and 2; LaSalle County, IL
Docket No(s) | 50-373, 50-374.
Amendment Date | September 7, 2021.
ADAMS Accession No | ML21162A069.
Amendment No(s) | 251 (Unit 1) and 237 (Unit 2).
Brief Description of Amendment(s) | The amendments modified technical specification requirements to permit the use of risk-informed completion times in accordance with Technical Specifications Task Force (TSTF) Traveler TSTF-505, Revision 2, “Provide Risk-Informed Extended Completion Times—RITSTF Initiative 4b.”
Public Comments Received as to Proposed NSHC (Yes/No) | No.
Exelon Generation Company, LLC; Limerick Generating Station, Units 1 and 2; Montgomery County, PA
Docket No(s) | 50-352, 50-353.
Amendment Date | September 28, 2021.
ADAMS Accession No | ML21181A044.
Amendment No(s) | 253 (Unit 1), 215 (Unit 2).
Brief Description of Amendment(s) | The amendments revised Technical Specification Section 1.0, “DEFINITIONS”; Section 3/4.4.6, “PRESSURE/TEMPERATURE LIMITS”; and Section 6.0, “ADMINISTRATIVE CONTROLS“; by replacing the existing reactor vessel heatup and cooldown rate limits and the pressure and temperature limit curves with references to the pressure and temperature limits report.
Public Comments Received as to Proposed NSHC (Yes/No) | No.
NextEra Energy Seabrook, LLC; Seabrook Station, Unit No. 1; Rockingham County, NH
Docket No(s) | 50-443.
Amendment Date | September 22, 2021.
ADAMS Accession No | ML21190A177.
Amendment No(s) | 169.
Brief Description of Amendment(s) | The amendment revised the technical specifications in order to resolve non-conservative requirements associated with nuclear heat flux hot channel factor, as reported in Westinghouse Nuclear Safety Advisory Letter (NSAL) 09-5, Revision 1, and NSAL 15-1.
Public Comments Received as to Proposed NSHC (Yes/No) | No.
PSEG Nuclear LLC; Salem Nuclear Generating Station, Unit No. 1; Salem County, NJ
Docket No(s) | 50-272.
Amendment Date | October 8, 2021.
ADAMS Accession No | ML21230A018.
Amendment No(s) | 339.
Brief Description of Amendment(s) | The amendment revised the reactor coolant system pressure-temperature limits and the pressurizer overpressure protection system limits and relocated them to a Pressure and Temperature Limits Report.
Public Comments Received as to Proposed NSHC (Yes/No) | No.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Amendment Date | September 29, 2021.
ADAMS Accession No | ML21232A149.
Amendment No(s) | Farley 236 (Unit 1) and 233 (Unit 2), Hatch 312 (Unit 1) and 257 (Unit 2); Vogtle 208 (Unit 1) and 191 (Unit 2).
Brief Description of Amendment(s) | The amendments removed the table of contents from the Edwin I. Hatch Nuclear Plant Units 1 and 2 (Hatch Units 1 and 2); Joseph M. Farley Nuclear Plant, Units 1 and 2; and Vogtle Electric Generating Plant, Units 1 and 2, Technical Specifications (TSs), as well as removed the effective page list from the Hatch, Units 1 and 2, TSs, and placed them under licensee control.
Public Comments Received as to Proposed NSHC (Yes/No) | No.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Amendment Date | September 21, 2021.
ADAMS Accession No | ML21217A091.
Amendment No(s) | Farley 235 (Unit 1) and 232 (Unit 2), Hatch 310 (Unit 1) and 256 (Unit 2), Vogtle 207 (Unit 1) and 190 (Unit 2).
Brief Description of Amendment(s) | The amendments revised the Southern Nuclear Operating Company Standard Emergency Plan, including the Site Annexes, to change the emergency response organization staffing composition and extend staff augmentation times from 75 to 90 minutes.
Public Comments Received as to Proposed NSHC (Yes/No) | No.
Southern Nuclear Operating Company, Inc.; Vogtle Electric Generating Plant, Unit 3; Burke County, GA; Southern Nuclear Operating Company, Inc.; Vogtle Electric Generating Plant, Unit 4; Burke County, GA
Docket No(s) | 52-025, 52-026.
Amendment Date | September 17, 2021.
ADAMS Accession No | ML21217A021 (Package).
Amendment No(s) | 187 (Unit 3) and 185 (Unit 4).
Brief Description of Amendment(s) | The amendments revised the Southern Nuclear Operating Company's Standard Emergency Plan, including site annexes, to change the emergency response organization staffing composition and extend staff augmentation time from 75 to 90 minutes.
Public Comments Received as to Proposed NSHC (Yes/No) | No.
Tennessee Valley Authority; Watts Bar Nuclear Plant, Units 1 and 2; Rhea County, TN
Docket No(s) | 50-390, 50-391.
Amendment Date | September 17, 2021.
ADAMS Accession No | ML21158A284.
Amendment No(s) | 148 (Unit 1) and 55 (Unit 2).
Brief Description of Amendment(s) | The amendments revised Watts Bar Nuclear Plant, Units 1 and 2, Technical Specification (TS) 3.3.2, “ESFAS Instrumentation,” Table 3.3.2-1, “Engineered Safety Feature Actuation System Instrumentation,” Function 6.e, “Auxiliary Feedwater—Trip of all Turbine Driven Main Feedwater Pumps,” to include the electric motor-driven standby main feedwater pump (SBMFW) trip channel for the auxiliary feedwater auto-start logic and added a new surveillance requirement to verify the status of the SBMFW pump trip channel when a turbine-driven main feedwater pump is in service.
Public Comments Received as to Proposed NSHC (Yes/No) | No.
Virginia Electric and Power Company; Surry Power Station, Units 1 and 2; Surry County, VA
Docket No(s) | 50-280, 50-281.
Amendment Date | August 20, 2021.
ADAMS Accession No | ML21175A185.
Amendment No(s) | 304 (Unit 1) and 304 (Unit 2).
Brief Description of Amendment(s) | The amendments permitted the application of the leak-before-break methodology to the auxiliary piping systems attached to the reactor coolant system for Surry Units 1 and 2 to eliminate the dynamic effects of postulated pipe ruptures.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
Southern Nuclear Operating Company, Inc.; Edwin I. Hatch Nuclear Plant, Unit 1; Appling County, GA
Docket No(s) | 50-321.
Amendment Date | September 24, 2021.
ADAMS Accession No | ML21264A644.
Amendment No(s) | 311.
Brief Description of Amendment(s) | The amendment revises Technical Specification (TS) 3.7.2, “Plant Service Water (PSW) System and Ultimate Heat Sink (UHS),” Condition A, “One PSW pump inoperable,” to allow a one-time increase in the Completion Time from 30 days to 45 days. The license amendment is issued under emergency circumstances as described in the provisions of paragraph 50.91(a)(5) of title 10 of the Code of Federal Regulations due to the time critical nature of the amendment.
Local Media Notice (Yes/No) | No.
Public Comments Requested as to Proposed NSHC (Yes/No) | No.

Dated: October 27, 2021.
For the Nuclear Regulatory Commission.
Bo M. Pham,
Director, Division of Operating Reactor Licensing, Office of Nuclear Reactor Regulation.

[FR Doc. 2021-23783 Filed 11-1-21; 8:45 am]

BILLING CODE 7590-01-P